DEPARTMENT OF COMMERCE

National Oceanic and Atmospheric Administration

Agency Information Collection Activities; Submission to the Office of Management and Budget (OMB) for Review and Approval; Comment Request; Alaska Saltwater Sportfishing Economic Survey

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 30, 2024.

ADDRESSES: Interested persons are invited to submit written comments to Adrienne Thomas, NOAA PRA Officer, at NOAA.PRA@noaa.gov. Please reference OMB Control Number 0648-0639 in the subject line of your comments. All comments received are part of the public record and will generally be posted on https://www.regulations.gov without change. Do not submit Confidential Business Information or otherwise sensitive or protected information.

FOR FURTHER INFORMATION CONTACT: Requests for additional information or specific questions related to collection activities should be directed to Dr. Russel Dame, Industry Economist, NOAA/NMFS, 7600 Sand Point Way NE, Bldg. 4, Seattle, WA 98115-6349, (206) 526-4432, russel.a.dame@noaa.gov.

SUPPLEMENTARY INFORMATION:

I. Abstract

This request is for reinstatement with changes of a previously approved information collection.

The National Marine Fisheries Service (NMFS) previously collected survey data in 2007, 2012, and 2017 for conducting economic analyses of marine sport fishing in Alaska. These surveys were necessary to understand the factors that affect marine recreational fishing and its economic value. Relative to the previously approved information collection, this information collection focuses on collecting data from a subset of the Alaska saltwater angler population targeted in previous collections, specifically all Alaska saltwater anglers fishing by charter boat rather than all Alaska saltwater anglers. The focus on charter anglers excludes anglers who fish from a private boat or from shore. The focus on the charter angler subpopulation is due to that population being of primary concern for fishery managers. Charter anglers fishing for federally-regulated Pacific halibut are subject to different regulations and management actions compared with other Alaska saltwater anglers. Harvest regulations (e.g., daily bag limits) for the unguided (non-charter) sector for Pacific halibut off Alaska have been unchanged for decades and are unlikely to change in the foreseeable future. Charter fishing for halibut in Alaska, on the other hand, has experienced a number of important changes that affect both charter anglers and the charter fishing businesses providing charter fishing services. The proposed data collection is needed to improve estimates of fishing trip values and fishing behavior potentially affected by changes in federal recreational fisheries off Alaska, including recent declines in populations of Pacific halibut and subsequent measures to manage harvest in the Alaska recreational charter fishing sector. Numerous questions in the survey have been updated to better reflect, and understand the effects of, recent changes in Alaska marine recreational fisheries.

The Federal Government is responsible for the management of the Pacific halibut sport fishery off Alaska, while the State of Alaska manages the salmon sport fisheries (Chinook, coho, sockeye, chum, and pink), as well as several other saltwater sport fisheries. The updated survey's scope covers marine sport charter fishing for Pacific halibut, salmon, and other popular marine sport species in Alaska (e.g., lingcod and rockfish). The data collected from the survey will be used to update estimates of the demand for and value of Pacific halibut fishing to charter anglers and to analyze how the type of fish caught, fishery regulations, and other factors affect fishing values and anglers' decisions to participate in Alaska marine charter fishing activities. The economic information provided from the survey will help inform fishery managers about the economic values of Alaska marine charter halibut fisheries and the changes to participation in these fisheries with proposed regulations.

II. Method of Collection

Data will be collected through a push-to-web survey. A random sample of sport anglers who have fished in Alaska via a charter or for-hire boat will be mailed instructions and a personalized URL or QR code to access and complete the password protected web-based survey. Follow-ups to the initial mailing will be done to encourage a response from those who have not completed the survey. Among the follow-up efforts will be a postcard reminder, a second mailing, and a telephone or email contact with non-responding license holders for whom we have telephone numbers or email addresses to encourage response and gather data for assessing non-response behavior.

III. Data

OMB Control Number: 0648-0639.

Form Number(s): None.

Type of Review: Regular submission. Reinstatement with revisions.

Affected Public: Individuals or households.

Estimated Number of Respondents: 3,700.

Estimated Time per Response: 28.7 minutes.

Estimated Total Annual Burden Hours: 1,770 hours.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-16786 Filed 7-30-24; 8:45 am]

BILLING CODE 3510-22-P